DEPARTMENT OF LABOR

Employment and Training Administration

[TA-W-38,113]

Eramet Marietta Incorporated North Plant, Marietta, OH; Notice of Revised Determination on Reopening

On December 22, 2000, the Department, on its own motion, reopend its investigation for workers and former workers at the subject firm in Marietta, Ohio.

The initial petition filed with the Department on behalf of workers of Eramet Marietta Incorporated, North Plant, Marietta, Ohio, was denied on November 21, 2000. The investigation revealed that the “contributed importantly” criterion of the worker group eligibility requirements of section 222 of the Trade Act of 1974, as amended, was not met. Although the company reported that it would rely on impor purchases of manganese metal, company imports had not as yet occurred. The notice was published in the Federal Register on December 21, 2000. (65 FR 80457).

By letter dated, December 15, 2000, the company informed the Department that the subject firm has accepted the first delivery of imported managense metal.

Conclusion

After careful consideration of the new facts obtained on reopening, it is concluded that increased imports of articles like or directly competitive with manganese metal contributed importantly to the decline in sales and to the total or partial separation of workers at the subject firm. In accordance with the provisions of the Trade Act of 1974, I make the following revised determation:

All workers of Eramet Marietta Incorporated, North Plant, Marietta, Ohio, who became totally or partially separated from employment on or after September 11, 1999, through two years from the date of this certification, are eligible to apply for adjustment assistance under Section 223 of the Trade Act of 1974.

Signed at Washington, DC this 26th day of December 2000.
Edward A. Tomchick,
Director, Division of Trade Adjustment Assistance.

[FR Doc. 01-947 Filed 1-10-01; 8:45 am]

BILLING CODE 4510-30-M